DEPARTMENT OF LABOR

Employment and Training Administration

[TA-W-62,243]

Electric Mobility Corporation; Sewell, NJ; Notice of Affirmative Determination Regarding Application for Reconsideration

By application dated November 19, 2007, the petitioner requested administrative reconsideration of the Department of Labor's Notice of Negative Determination Regarding Eligibility to Apply for Worker Adjustment Assistance, applicable to workers and former workers of the subject firm. The denial notice was signed on November 1, 2007 and published in the Federal Register on November 15, 2007 (72 FR 64247).

The initial investigation resulted in a negative determination based on the finding that the subject firm did not separate or threaten to separate a significant number or proportion of workers as required by Section 222 of the Trade Act of 1974.

In the request for reconsideration, the petitioner provided additional information regarding the subject firm's employment.

The Department has reviewed the workers' request for reconsideration and the existing record, and has determined that an administrative review is appropriate. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 26th day of November, 2007.
Elliott S. Kushner,
Certifying Officer, Division of Trade Adjustment Assistance.

[FR Doc. E7-23375 Filed 11-30-07; 8:45 am]

BILLING CODE 4510-FN-P